DEPARTMENT OF COMMERCE

International Trade Administration

[A-570-848]

Freshwater Crawfish Tail Meat From the People's Republic of China: Preliminary Results of Antidumping Duty Administrative Review, Rescission of Review in Part, and Preliminary Intent To Rescind New Shipper Review; 2015-2016

AGENCY: Enforcement and Compliance, International Trade Administration, Department of Commerce.

SUMMARY: The Department of Commerce (the Department) is conducting an administrative review and a new shipper review of the antidumping duty order on freshwater crawfish tail meat from the People's Republic of China (PRC). The period of review (POR) for the administrative review and the aligned new shipper review is September 1, 2015, through August 31, 2016. The administrative review covers two mandatory respondent exporters of the subject merchandise, Hubei Nature Agriculture Industry Co., Ltd. (Hubei Nature) and Yancheng Hi-King Agriculture Developing Co., Ltd. (Yancheng Hi-King). The new shipper review covers Jingzhou Tianhe Aquatic Products, Ltd. (Jingzhou Tianhe). The Department preliminarily determines that sales of subject merchandise by Hubei Nature have been made at prices below normal value, and sales of subject merchandise by Yancheng Hi-King have not been made at prices below normal value. The Department also preliminarily determines that Jingzhou Tianhe's single sale made to the United States during the POR was not bona fide. The Department preliminarily intends to rescind the new shipper review with respect to Jingzhou Tianhe.

DATES: Effective June 7, 2017.

FOR FURTHER INFORMATION CONTACT: Bryan Hansen at (202) 482-3683 (Hubei Nature), Joseph Shuler (202) 482-1293 (Yancheng Hi-King), or Dmitry Vladimirov (202) 482-0665 (Jingzhou Tianhe), AD/CVD Operations, Office I, Enforcement and Compliance, International Trade Administration, U.S. Department of Commerce, 1401 Constitution Avenue NW., Washington, DC 20230.

SUPPLEMENTARY INFORMATION:

Scope of the Order

The merchandise subject to the antidumping duty order is freshwater crawfish tail meat, which is currently classified in the Harmonized Tariff Schedule of the United States (HTSUS) under subheadings 1605.40.10.10, 1605.40.10.90, 0306.19.00.10, and 0306.29.00.00. On February 10, 2012, the Department added HTSUS classification number 0306.29.01.00 to the scope description pursuant to a request by U.S. Customs and Border Protection (CBP). While the HTSUS numbers are provided for convenience and customs purposes, the written description is dispositive. A full description of the scope of the order is contained in the Preliminary Decision Memorandum.¹

¹ See Memorandum, “Decision Memorandum for the Preliminary Results of the Antidumping Duty Administrative Review and New Shipper Review of Freshwater Crawfish Tail Meat from the People's Republic of China; 2015-2016,” dated concurrently with, and hereby adopted by, this notice (Preliminary Decision Memorandum).

Rescission of Administrative Review in Part

Pursuant to 19 CFR 351.213(d)(1), the Department will rescind an administrative review, in whole or in part, if the parties that requested a review withdraw the request within 90 days of the date of publication of the notice of initiation.

Parties withdrew their review requests for eight of the eleven companies for which a review was requested. These withdrawals of review requests were submitted within the deadline set forth under 19 CFR 351.213(d)(1) and no other parties requested a review of these companies. Accordingly, the Department is rescinding this review, in part, with respect to China Kingdom (Beijing) Import & Export Co., Ltd., Deyan Aquatic Products and Food Co., Ltd., Hubei Qianjiang Huashan Aquatic Food and Product Co., Ltd., Hubei Yuesheng Aquatic Products Co., Ltd., Nanjing Gemsen International Co., Ltd., Shanghai Ocean Flavor International Trading Co., Ltd., Weishan Hongda Aquatic Food Co., Ltd., and Xuzhou Jinjiang Foodstuffs Co., Ltd., in accordance with 19 CFR 351.213(d)(1).²

² For more details, see the Preliminary Decision Memorandum.

Bona Fides Analysis

As discussed in the Preliminary Decision Memorandum, we preliminarily find that the sale made by Jingzhou Tianhe is not bona fide.³ We reached this conclusion based on the following totality of circumstances: The quantity and price of the U.S. sale are not reflective of the normal commercial reality; the suspect timing of the U.S. sale; the severe tardiness in the receipt of payment; and certain atypical business practices which are additional factors that are at odds with the normal business considerations of a bona fide sale.⁴ Because the non-bona fide sale at issue here was the only sale of subject merchandise that Jingzhou Tianhe made to the United States during the POR, we are preliminarily rescinding the new shipper review of this company.

³ See Preliminary Decision Memorandum; see also Memorandum, “New Shipper Review of Freshwater Crawfish Tail Meat from the People's Republic of China—Bona Fides Analysis of Jingzhou Tianhe Aquatic Products Co., Ltd.'s Sale,” dated concurrently with this memorandum.

⁴ Id.

Separate Rate for Eligible Non-Selected Respondents

The Department preliminarily determines that the respondent not selected for individual examination, Xiping Opeck Food Co., Ltd. (Xiping Opeck), is eligible to receive separate rate in this review.⁵ Consistent with our practice, we assigned to Xiping Opeck the weighted-average margin calculated for Hubei Nature as the separate rate for the preliminary results of this review.⁶

⁵ See Preliminary Decision Memorandum at 9-10 for more details.

⁶ Id.

PRC-Wide Entity

The Department's policy regarding conditional review of the PRC-wide entity applies to this administrative review.⁷ Under this policy, the PRC-wide entity will not be under review unless a party specifically requests, or the Department self-initiates, a review of the entity. Because no party requested a review of the PRC-wide entity in this review, the entity is not under review and the entity's rate is not subject to change (i.e., 223.01 percent).⁸

⁷ See Antidumping Proceedings: Announcement of Change in Department Practice for Respondent Selection in Antidumping Duty Proceedings and Conditional Review of the Nonmarket Economy Entity in NME Antidumping Duty Proceedings, 78 FR 65963 (November 4, 2013).

⁸ See Freshwater Crawfish Tail Meat from the People's Republic of China; Notice of Final Results of Antidumping Duty Administrative Review, 68 FR 19504 (April 21, 2003).

Methodology

The Department is conducting these reviews in accordance with section 751(a)(1)(B), and (a)(2)(B) of the Tariff Act of 1930, as amended (the Act), and 19 CFR 351.214. Export price is calculated in accordance with section 772(c) of the Act. Because the PRC is a non-market economy (NME) within the meaning of section 771(18) of the Act, normal value has been calculated in accordance with section 773(c) of the Act.

For a full description of the methodology underlying our conclusions, see the Preliminary Decision Memorandum. The Preliminary Decision Memorandum is a public document and is made available to the public via Enforcement and Compliance's Antidumping and Countervailing Duty Centralized Electronic Service System (ACCESS). ACCESS is available to registered users at https://access.trade.gov, and to all parties in the Department's Central Records Unit, room B8024 of the main Department of Commerce building. In addition, a complete version of the Preliminary Decision Memorandum can be found at http://enforcement.trade.gov/frn/. A list of the topics discussed in the Preliminary Decision Memorandum is attached as an Appendix to this notice.

Preliminary Results of Administrative Review

The Department determines that the following preliminary dumping margins exist for the administrative review covering the period September 1, 2015, through August 31, 2016:

Producer/exporter | Weighted- average margin (percent)
Hubei Nature Agriculture Industry Co., Ltd | 5.10
Xiping Opeck Food Co., Ltd | 5.10
Yancheng Hi-King Agriculture Developing Co., Ltd ⁹ | 0.00

Disclosure

We intend to disclose calculations performed in these preliminary results to parties within five days after public announcement of the preliminary results.¹⁰

⁹ This rate preliminarily applies to Yancheng Hi-King Agriculture Developing Co., Ltd. and Yancheng Seastar Seafood Co., Ltd. See the “Separates Rates” section of the Preliminary Decision Memorandum for more details.

¹⁰ See 19 CFR 351.224(b).

Public Comment

Pursuant to 19 CFR 351.309(c)(ii), interested parties may submit cases briefs not later than 30 days after the date of publication of this notice. Rebuttal briefs, limited to issues raised in the case briefs, may be filed not later than five days after the date for filing case briefs.¹¹ Parties who submit case briefs or rebuttal briefs in this proceeding are encouraged to submit with each argument: (1) A statement of the issue; (2) a brief summary of the argument; and (3) a table of authorities.¹²

¹¹ See 19 CFR 351.309(d).

¹² See 19 CFR 351.309(c)(2) and (d)(2) and 19 CFR 351.303 (for general filing requirements).

Pursuant to 19 CFR 351.310 (c) interested parties who wish to request a hearing, or participate if one is requested, must submit a written request to the Assistant Secretary for Enforcement and Compliance. All documents must be filed electronically using ACCESS which is available to registered users at http://access.trade.gov. An electronically filed document must be received successfully in its entirety by ACCESS by 5:00 p.m. Eastern Time within 30 days after the date of publication of this notice.¹³ Requests should contain: (1) The party's name, address, and telephone number; (2) the number of participants; and (3) a list of issues to be discussed. Issues raised in the hearing will be limited to those raised in the respective case briefs.

¹³ See 19 CFR 351.310(c).

Unless the deadline is extended, the Department will issue the final results of these reviews, including the results of its analysis of issues raised by parties in their comments, within 120 days after the publication of these preliminary results, pursuant to section 751(a)(3)(A) of the Act and 19 CFR 351.213(h).

Assessment Rates

Upon issuing the final results, the Department will determine, and U.S. Customs and Border Protection (CBP) shall assess, antidumping duties on all appropriate entries covered by these reviews.¹⁴ If a respondent's weighted-average dumping margin is above de minimis (i.e., 0.50 percent) in the final results of these reviews, the Department will calculate an importer-specific assessment rate on the basis of the ratio of the total amount of dumping calculated for each importer's examined sales and, where possible, the total entered value of sales. If the Department proceeds with a final rescission of the new shipper review with respect to Jingzhou Tianhe, its entry will be assessed at the rate entered.¹⁵

¹⁴ See 19 CFR 351.212(b)(1).

¹⁵ See 19 CFR 351.212(c)(2).

In these preliminary results, the Department applied the assessment rate calculation method adopted in the Final Modification for Reviews, i.e., on the basis of monthly average-to-average comparisons using only the transactions associated with the importer with offsets being provided for non-dumped comparisons.¹⁶ Where either the respondent's weighted-average dumping margin is zero or de minimis, or an importer-specific assessment rate is zero or de minimis, we will instruct CBP to liquidate the appropriate entries without regard to antidumping duties.¹⁷

¹⁶ See Antidumping Proceeding: Calculation of the Weighted-Average Dumping Margin and Assessment Rate in Certain Antidumping Duty Proceedings; Final Modification, 77 FR 8101 (February 14, 2012) (Final Modification for Reviews).

¹⁷ See 19 CFR 351.106(c)(2).

For entries that were not reported in the U.S. sales databases submitted by companies individually examined during this review, the Department will instruct CBP to liquidate such entries at the PRC-wide rate. We intend to issue assessment instructions to CBP 15 days after the date of publication of the final results of these reviews.

Cash Deposit Requirements

The following cash deposit requirements will be effective upon publication of the final results of these reviews for shipments of the subject merchandise from the PRC entered, or withdrawn from warehouse, for consumption on or after the publication date, as provided by section 751(a)(2)(C) of the Act: (1) For the companies listed above that have a separate rate, the cash deposit rate will be that established in the final results of these reviews (except if the rate is zero or de minimis, i.e., less than 0.5 percent, then no cash deposit will be required) (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in the Department's presumption that reimbursement of antidumping duties occurred and the subsequent assessment of double antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation. We are issuing and publishing the preliminary results of these reviews in accordance with sections 751(a)(1), 751(a)(2)(B)(iv), 751(a)(3), 777(i) of the Act, and 19 CFR 351.213, 351.214 and 351.221(b)(4).

Dated: June 1, 2017.
Ronald K. Lorentzen,
Acting Assistant Secretary for Enforcement and Compliance.

Appendix—List of Topics Discussed in the Preliminary Decision Memorandum

I. Summary

II. Background

III. Scope of the Order

IV. Rescission of Administrative Review in Part

V. Bona Fides Analysis

VI. Discussion of Methodology

A. Non-Market-Economy Country Status

B. Surrogate Country

C. Separate Rates

1. Absence of De Jure Control

2. Absence of De Facto Control

3. Separate Rate for Eligible Non-Selected Respondent

D. Fair Value Comparisons

1. Determination of Comparison Method

2. Results of the Differential Pricing Analysis

E. U.S. Price

F. Date of Sale

G. Normal Value

H. Surrogate Values

VII. Currency Conversion

VIII. Recommendation

[FR Doc. 2017-11824 Filed 6-6-17; 8:45 am]

BILLING CODE 3510-DS-P